DEPARTMENT OF TRANSPORTATION

Federal Aviation Administration

Notice of Opportunity for Public Comment on Airport Property Release at Griffin-Spalding County Airport, Griffin, GA

AGENCY: Federal Aviation Administration (FAA), DOT.

ACTION: Notice.

SUMMARY: Under the provisions of Title 49, U.S.C. Section 47153 (c), notice is being given that the FAA is considering a request from the City of Griffin to waive the requirement that approximately .649—acres of aeronautical property, located at the Griffin-Spalding County Airport, be used for aeronautical purposes.

DATES: Comments must be received on or before May 29, 2008.

ADDRESSES: Comments on this notice may be mailed or delivered in triplicate to the FAA at the following address: Atlanta Airports District Office, Attn: Anna Guss, Program Manager, 1701 Columbia Ave., Suite 2-260, Atlanta, GA 30337-2747.

In addition, one copy of any comments submitted to the FAA must be mailed or delivered to William P Wilson, Jr, County Manager, Spalding County at the following address: Spalding County, 119 Solomon St, Griffin, GA 30224.

FOR FURTHER INFORMATION CONTACT: Anna Guss, Program Manager, Atlanta Airports District Office, 1701 Columbia Ave., Suite 2260, Atlanta, GA 30337-2747, (404) 305-7146. The application may be reviewed in person at this same location.

SUPPLEMENTARY INFORMATION: The FAA is reviewing a request by the City of Griffin to release approximately .649 acres of aeronautical property at the Griffin-Spalding County Airport. The property consists of one parcel located adjacent to and north and west of the right of way at the intersection of SR 155 and Airport Road. This property is currently shown on the approved Airport Layout Plan as aeronautical use land; however, the property is currently not being used for aeronautical purposes, and the proposed use of this property is compatible with airport operations. The City will ultimately sell the property to the Georgia Department of Transportation who will utilize the property for purposes of right of way for both SR 155 and Airport Road, with proceeds of the sale providing funding for future airport development.

Any person may inspect the request in person at the FAA office listed above under FOR FURTHER INFORMATION CONTACT. In addition, any person may, upon request, inspect the request, notice and other documents germane to the request in person at the Griffin-Spalding County Airport.

Issued in Atlanta, Georgia on March 13, 2008.
Larry F. Clark,
Acting Manager, Atlanta Airports District Office, Southern Region.

[FR Doc. E8-9272 Filed 4-28-08; 8:45 am]

BILLING CODE 4910-13-M